DEPARTMENT OF COMMERCE

Submission for OMB Review; Comment Request

The Department of Commerce has submitted to the Office of Management and Budget (OMB) for clearance the following proposal for collection of information under the provisions of the Paperwork Reduction Act (44 U.S.C. Chapter 35).

Agency: National Institute of Standards and Technology (NIST).

Title: NIST Three-Year Generic Request for Customer Service-Related Data Collections.

Form Number(s): None.

OMB Approval Number: 0693-0031.

Type of Review: Regular submission.

Burden Hours: 3,022.

Number of Respondents: 12,000.

Average Hours Per Response: 2 minutes for a response card, and 2 hours for focus group participation. The average estimated response time is expected to be 30 minutes.

Needs and Uses: NIST will conduct surveys, focus groups, and other customer satisfaction/service data collections. The collected information is needed and will be used to determine the kind and the quality of products, services, and information our key customers want and expect, as well as their satisfaction with and awareness of existing products, services and information.

Affected Public: Business or other for profit organizations, not-for-profit institutions, and Federal, State, Local, or Tribal government.

Frequency: On occasion.

Respondent's Obligation: Voluntary.

OMB Desk Officer: Jasmeet Seehra, (202) 395-3123.

Copies of the above information collection proposal can be obtained by calling or writing Diana Hynek, Departmental Paperwork Clearance Officer, (202) 482-0266, Department of Commerce, Room 6625, 14th and Constitution Avenue, NW., Washington, DC 20230 (or via the Internet at dHynek@doc.gov).

Written comments and recommendations for the proposed information collection should be sent within 30 days of publication of this notice to Jasmeet Seehra, OMB Desk Officer, FAX number (202) 395-5806, or Jasmeet_K._Seehra@omb.eop.gov.

Dated: November 7, 2005.
Gwellnar Banks,
Management Analyst, Office of the Chief Information Officer.

[FR Doc. 05-22512 Filed 11-10-05; 8:45 am]

BILLING CODE 3510-13-P